DEPARTMENT OF AGRICULTURE

Rural Utilities Service

Energy Answers Arecibo, LLC: Notice of Availability of a Draft Environmental Impact Statement and Notice of a Public Meeting

AGENCY: Rural Utilities Service, USDA.

ACTION: Notice of availability of a draft environmental impact statement.

SUMMARY: The Rural Utilities Service (RUS), an agency within the U.S. Department of Agriculture (USDA), has issued a Draft Environmental Impact Statement (EIS) for Energy Answers Arecibo, LLC's (Energy Answers) proposed Waste to Energy Project (Project) in Arecibo, Puerto Rico. RUS is issuing the Draft EIS to inform interested parties and the general public about the proposed Project and to invite the public to comment on the scope, proposed action, and other issues addressed in the Draft EIS. The Draft EIS addresses the construction, operation, and maintenance of Energy Answers' proposed Project, a waste-to-energy generation and resource recovery facility in the Cambalache Ward of Arecibo, Puerto Rico. RUS prepared the EIS in accordance with the National Environmental Policy Act (NEPA), as amended, the Council on Environmental Quality's Regulation for Implementing the Procedural Provisions of the NEPA (40 CFR parts 1500-1508), and RUS's Environmental Policies and Procedures (7 CFR part 1794). RUS will hold a public hearing to receive oral comments on the Draft EIS.

DATES: The public comment period on the Draft EIS will be announced in the U.S. Environmental Protection Agency's (USEPA) EIS receipt notice, which will be published in the Federal Register. RUS will consider all substantive written comments on the Draft EIS received or postmarked by that date. Agencies, interested parties, and the general public are invited to submit comments on the Draft EIS at any time during the public comment period. A public hearing also is scheduled for August 20, 2015 from 5 to 8 p.m. at the Arecibo Country Club in Arecibo, 00612, Puerto Rico. Oral comments submitted during the hearing will be restricted to a specified time frame to ensure that all interested parties have the opportunity to speak. Doors will open at 4:30 p.m. for registration; RUS will receive oral comments immediately following a short presentation at 5 p.m.

ADDRESSES: The public hearing will be held at the Arecibo Country Club in Arecibo, Puerto Rico, 00612. Copies of the Draft EIS will be available for public viewing at the Arecibo Public Library (Nicolas Nabal Barreto), located at: 210 Santiago Iglesias Pantin Ave., Arecibo, Puerto Rico 00612. Parties wishing to be placed on the Project mailing list or those wishing to participate more directly with RUS as a “consulting party” in Section 106 review may submit a written request to: Ms. Lauren McGee Rayburn, Environmental Scientist, Rural Utilities Service, 84 Coxe Ave., Suite 1E, Ashville, North Carolina 28801, telephone: (202) 695-2540, fax: (202) 690-0649, or email: Lauren.McGee@wdc.usda.gov.

FOR FURTHER INFORMATION CONTACT: For information on the proposed Project and the Draft EIS process, please contact Ms. Lauren McGee Rayburn, Environmental Scientist, Rural Utilities Service, 84 Coxe Ave., Suite 1E, Ashville, North Carolina 28801, telephone: (202) 695-2540, fax: (202) 690-0649, or email: Lauren.McGee@wdc.usda.gov. Parties wishing to be placed on the Project mailing list for future information and to receive copies of the EIS should also contact Ms. Rayburn.

SUPPLEMENTARY INFORMATION: Energy Answers plans to request financial assistance for the proposed Project from RUS. Completing the EIS is one of RUS's requirements in processing Energy Answers' pending application, along with other technical and financial considerations. Energy Answers proposes to a construct a waste to energy generation and resource recovery facility in the Cambalache Ward of Arecibo, Puerto Rico. The proposed facility would process approximately 2100 tons of municipal waste per day and generate a net capacity of 77 megawatts (MW). The Puerto Rico Electric Power Authority will purchase power generated from the facility. The preferred location of the facility is the site of a former paper mill and would cover approximately 79.6 acres of the 90-acre parcel. The proposal would include the following facility components: A municipal solid waste receiving and processing building; processed refuse fuel storage building; boiler and steam turbine; emission control system; ash processing and storage building; and other associated infrastructure and buildings. Two other connected actions, which would be constructed by other utilities, include installation of an approximately 2.0-mile raw water line and construction of a 38 kilovolt (kV) transmission line approximately 0.8 miles in length. The connected actions will be addressed in the proposed Project's EIS.

In accordance with 7 CFR 1794.74 and 40 CFR 1502.21, RUS incorporates by reference the environmental impact analyses and associated documentation prepared by the Puerto Rico Industrial Development Company (PRIDCO) and the USEPA where appropriate. PRIDCO served as a lead agency in preparing an EIS under the Puerto Rico Environmental Public Policy Act, Article 4(B)(3), Law No. 416 (September 22, 2004). The USEPA completed air quality analyses and issued a Prevention of Significant Deterioration (PSD) permit for the proposed Project on June 11, 2013. As applicable, the EIS will document changes in the affected environment and environmental consequences that may have changed since issuance of the PRIDCO-EIS and USEPA PSD permit.

Because the proposed Project may involve action in floodplains or wetlands, this Notice also serves as a notice of proposed floodplain or wetland action. The draft EIS will include a floodplain/wetland assessment and, if required, a floodplain/wetland statement of findings will be issued with the Final EIS.

RUS has determined that its action regarding the proposed Project would be an undertaking subject to review under Section 106 of the National Historic Preservation Act, 16 U.S.C. 470 and its implementing regulations, “Protection of Historic Properties” (36 CFR part 800). As part of its broad environmental review process, RUS must take into account the effect of the proposed Project on historic properties in accordance with Section 106. Pursuant to 36 CFR 800.2(d)(3), RUS is using its procedures for public involvement under NEPA to meet its responsibilities to solicit and consider the views of the public during Section 106 review. Accordingly, comments submitted in response to this Notice will inform RUS decision-making in its Section 106 review process. Any party wishing to participate more directly with RUS as a “consulting party” in Section 106 review may submit a written request to the RUS contact provided in this Notice.

The Draft EIS is available in both Spanish and English for review at the following Web site: http://www.rd.usda.gov/publications/environmental-studies/impact-statements/arecibo-waste-energy-generation-and-resource. The Draft EIS will be available for review and comment for 45 days after the USEPA's EIS receipt notice in the Federal Register. Following this review period, RUS may prepare a Final EIS. After a 30-day review period of the Final EIS, RUS may publish a Record of Decision (ROD). Notices announcing the availability of the Final EIS and ROD will be published in the Federal Register and in local newspapers.

Any final action by RUS related to the proposed Project will be subject to, and contingent upon, compliance with all relevant presidential executive orders and federal, state, and local environmental laws and regulations in addition to the completion of the environmental review requirements as prescribed in RUS's Environmental Policies and Procedures, 7 CFR part 1794, as amended.

Christopher A. Mclean,
Assistant Administrator—Electric Programs, Rural Utilities Service.

[FR Doc. 2015-19455 Filed 8-6-15; 8:45 am]

BILLING CODE P